DEPARTMENT OF ENERGY

Federal Energy Regulatory Commission

Combined Notice of Filings #1

Take notice that the Commission received the following electric rate filings:

Docket Numbers: ER15-788-001.

Applicants: Southwest Power Pool, Inc.

Description: Tariff Amendment per 35.17(b): Thresholds for Uneconomic Prod. Investigation Deficiency Response in E15-788 to be effective 3/1/2014.

Filed Date: 4/13/15.

Accession Number: 20150413-5304.

Comments Due: 5 p.m. ET 5/4/15.

Docket Numbers: ER15-943-001.

Applicants: Midcontinent Independent System Operator, Inc.

Description: Compliance filing per 35: 2015-04-13_SA 6502 Illinois Power-Edwards SSR Renewal Compliance Filing to be effective 1/1/2015.

Filed Date: 4/13/15.

Accession Number: 20150413-5165.

Comments Due: 5 p.m. ET 5/4/15.

Docket Numbers: ER15-1211-001.

Applicants: Wisconsin Public Service Corporation.

Description: Tariff Amendment per 35.17(b): Update to WPSC Annual PEB/PBOP Filing to be effective 4/1/2015.

Filed Date: 4/14/15.

Accession Number: 20150414-5125.

Comments Due: 5 p.m. ET 5/5/15.

Docket Numbers: ER15-1498-000.

Applicants: New York Independent System Operator, Inc.

Description: Compliance filing per 35: Compliance tariff revs to implement a competitive entry exemption to BSM Rules to be effective 2/26/2015.

Filed Date: 4/13/15.

Accession Number: 20150413-5324.

Comments Due: 5 p.m. ET 5/4/15.

Docket Numbers: ER15-1499-000.

Applicants: Southwest Power Pool, Inc.

Description: Section 205(d) rate filing per 35.13(a)(2)(iii): Revisions to City of Independence, Missouri Stated Rate to be effective 6/1/2015.

Filed Date: 4/13/15.

Accession Number: 20150413-5325.

Comments Due: 5 p.m. ET 5/4/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 14, 2015.
Nathaniel J. Davis, Sr.,
Deputy Secretary.

[FR Doc. 2015-09041 Filed 4-20-15; 8:45 am]

BILLING CODE 6717-01-P